GENERAL SERVICES ADMINISTRATION

Maximum Per Diem Rates for the Continental United States (CONUS)

AGENCY: Office of Governmentwide Policy, General Services Administration (GSA).

ACTION: Notice of Per Diem Bulletin 06-1, Fiscal Year (FY) 2006 continental United States (CONUS) per diem rates.

SUMMARY: The General Services Administration's (GSA's) annual per diem review has resulted in lodging and meal allowances changes for locations within the continental United States (CONUS) to provide for the reimbursement of Federal employees' expenses covered by per diem. Per Diem Bulletin 06-1 increases/decreases the maximum per diem amounts in existing per diem localities. The standard CONUS lodging amount of $60 is unchanged. The CONUS per diems prescribed in Bulletin 06-1 may be found at http://www.gsa.gov/perdiem. GSA based the lodging per diem rates on the average daily rate that the lodging industry reports. The use of such data in the per diem rate setting process enhances the Government's ability to obtain policy compliant lodging where it is needed. In addition to the annual lodging study, GSA conducted a meals study which resulted in new meal allowances for FY 2006. Bulletin 06-1 also contains a listing of pertinent information that must be submitted through an agency for GSA to restudy a location if a CONUS per diem rate is insufficient to meet necessary expenses.

DATES: This notice is effective October 1, 2005, and applies for travel performed on or after October 1, 2005 through September 30, 2006.

FOR FURTHER INFORMATION CONTACT: For clarification of content, contact Lois Mandell, Office of Governmentwide Policy, Office of Travel, Transportation, and Asset Management, at (202) 501-2824, or by email at www.gsa.gov/perdiemquestions. Please cite Notice of Per Diem Bulletin 06-1.

SUPPLEMENTARY INFORMATION:

A. Background

After an analysis of current data, GSA has determined that current lodging rates for certain localities do not adequately reflect the lodging economics in those areas. In FY06, we have refined our methodology to include 50 percent more properties, and current ADR data capturing the business week (Monday through Thursday) rather than the entire week, as was done for the 2005 rates. A meals study has also been conducted which resulted in new meal allowances.

B. Change in standard procedure

GSA issues/publishes the CONUS per diem rates, formerly published in Appendix A to 41 CFR chapter 301, solely on the internet at http://www.gsa.gov/perdiem. This process, implemented in 2003, ensures more timely changes in per diem rates established by GSA for Federal employees on official travel within CONUS. Notices published periodically in the Federal Register, such as this one, now constitute the only notification of revisions in CONUS per diem rates to agencies.

Dated: August 25, 2005.
Becky Rhodes,
Deputy Associate Administrator.

[FR Doc. 05-17481 Filed 8-31-05; 8:45 am]

BILLING CODE 6820-14-S